DEPARTMENT OF EDUCATION

Full-Service Community Schools

Catalog of Federal Domestic Assistance (CFDA) Number: 84.215J.

AGENCY: Office of Innovation and Improvement, Department of Education.

ACTION: Notice of proposed priorities, requirements, definitions, and selection criteria.

SUMMARY: The Secretary of Education proposes priorities, requirements, definitions, and selection criteria for the Full-Service Community Schools (FSCS) program. The Secretary may use these priorities, requirements, definitions, and selection criteria for competitions in fiscal year (FY) 2010 and later years. We take this action to focus Federal assistance on supporting collaboration among schools and entities within a community in the provision of comprehensive academic, social, and health services for students, students' family members, and community members. We intend the priorities to support the improvement of student outcomes through their promotion of strong school-community partnerships that support effective resource coordination and service delivery.

DATES: We must receive your comments on or before March 10, 2010.

ADDRESSES: Address all comments about this notice to Jill Staton, U.S. Department of Education, 400 Maryland Avenue, SW., room 4W245, Washington, DC 20202-5970.

If you prefer to send your comments by e-mail, use the following address: FSCS@ed.gov. You must include the term “FSCS—Comments on FY 2010 Proposed Priority” in the subject line of your electronic message.

FOR FURTHER INFORMATION CONTACT: Jill Staton. (202) 401-2091 or by e-mail: FSCS@ed.gov.

If you use a telecommunications device for the deaf (TDD), call the Federal Relay Service, toll free, at 1-800-877-8339.

SUPPLEMENTARY INFORMATION: Invitation to Comment: We invite you to submit comments regarding this notice. To ensure that your comments have maximum effect in developing the notice of final priorities, requirements, definitions, and selection criteria, we urge you to identify clearly the specific proposed priority, requirement, definition, or selection criterion your comment addresses.

We invite you to assist us in complying with the specific requirements of Executive Order 12866 and its overall requirement of reducing regulatory burden that might result from the proposed priorities, requirements, definitions, and selection criteria. Please let us know of any further ways we could reduce potential costs or increase potential benefits while preserving the effective and efficient administration of the program.

During and after the comment period, you may inspect all public comments about the proposed priorities, requirements, definitions, and selection criteria in room 4W245, 400 Maryland Avenue, SW., Washington, DC, between the hours of 8:30 a.m. and 4:00 p.m., Washington, DC time, Monday through Friday of each week except Federal holidays.

Assistance to Individuals With Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The Fund for the Improvement of Education (FIE), which is authorized by section 5411 of the Elementary and Secondary Education Act of 1965, as amended (ESEA), supports nationally significant programs to improve the quality of elementary and secondary education at the State and local levels and help all children meet challenging academic content and academic achievement standards. The FSCS program, which is funded under FIE, encourages coordination of academic, social, and health services through partnerships between (1) public elementary and secondary schools; (2) the schools' local educational agencies; and (3) community-based organizations, non-profit organizations, and other public or private entities. The purpose of this collaboration is to provide comprehensive academic, social, and health services for students, students' family members, and community members that will result in improved educational outcomes for children.

Program Authority: 20 U.S.C. 7243-7243b.

Proposed Priorities:

Types of Priorities

When inviting applications for a competition using one or more priorities, we designate the type of each priority as absolute, competitive preference, or invitational through a notice in the Federal Register. Under an absolute priority, as specified by 34 CFR 75.105(c)(3), we would consider only applications that meet the priority. Under a competitive preference priority, we would give competitive preference to an application by (1) awarding additional points, depending on the extent to which the application meets the priority (34 CFR 75.105(c)(2)(i)); or (2) selecting an application that meets the priority over an application of comparable merit that does not meet the priority (34 CFR 75.105(c)(2)(ii)). With an invitational priority, we would signal our interest in receiving applications that meet the priority; however, consistent with 34 CFR 75.105(c)(1), we would not give an application that meets an invitational priority preference over other applications.

The Secretary proposes two priorities for the Full-Service Community Schools program. Proposed Priority 1 is an absolute priority—all applicants would be required to meet this priority in order to receive a grant. Priority 2 is a competitive preference priority under which we would award additional points to an applicant that met the priority. We may choose, in the notice of final priorities, requirements, definitions, and selection criteria, to change the designation of any of these priorities to absolute, competitive preference, or invitational priorities, or to include the substance of these priorities in the selection criteria.

Background:

In order for children to be ready and able to learn, they need academic, social, and health supports. The National Research Council has cited the presence of these supports as important predictors of future adult success.¹ Students' needs are better met when academic, social, and health services are delivered to them in a well-coordinated and collaborative manner.

¹ Committee on Community-Level Programs for Youth (2002). Community Programs To Promote Youth Development. Edited by J.S. Eccles and J. Gootman. Washington, DC: National Research Council, Institute of Medicine, and National Academy Press.

A full-service community school, as defined in this notice, is a public elementary or secondary school that coordinates with its local educational agency and with community-based organizations, nonprofit organizations, and other public or private entities on the provision of comprehensive academic, social, and health services to students, students' family members, and community members. In addition, a full-service community school fosters community development and promotes parental engagement by bringing together many partners in order to offer a range of supports and opportunities for students, students' family members, and community members.

Schools do not operate in total isolation from the communities in which they are located. Such community challenges as poverty, violence, poor physical health, and family instability are also education issues. When schools and community partners collaborate to address these issues and align their resources to achieve common results, children are more likely to succeed academically, socially, and emotionally. Full-service community schools seek to address these challenges by connecting students, students' family members, and community members with available services and opportunities, including with increased-learning-time opportunities that can support high academic achievement.

Additionally, the Department recognizes that in order for students and the members of the communities in which they reside to thrive, their schools must be effective. Effective schools create learning environments that support student academic success. They are characterized by high academic standards; rigorous curricula; high-quality teachers; effective school leadership; well-designed assessments and accountability systems; positive school climates; and strong professional development. It is imperative that we pay close attention to our most educationally disadvantaged, persistently lowest-achieving schools, as defined in this notice. These are the schools that continue to challenge our country's system of public education and fail to adequately educate our Nation's youth. Persistently lowest-achieving schools can be transformed into schools that enable all students to meet high standards when these schools implement school intervention models, as defined in this notice, that are aligned with a well-coordinated system of comprehensive academic, social, and health services. The Department believes that the full-service community school model can create the needed synergy to bolster efforts to transform persistently lowest-achieving schools into schools that enable all students to meet high standards.

Proposed Absolute Priority:

This absolute priority would support projects that propose to establish or expand (through collaborative efforts among State and local agencies, community-based organizations, other public and private entities, and parents) full-service community schools, as defined in this notice, offering a range of services. To meet this priority, an applicant must propose a project that is based on scientifically based research—as defined in section 9101(3) of the ESEA—and that establishes or expands a full-service community school as defined in this notice. Each applicant must propose to provide at least three of the following eligible services at each participating full-service community school included in its proposed project:

1. Early childhood education;

2. Remedial education and academic enrichment activities;

3. Programs that promote parental involvement and family literacy activities;

4. Mentoring and other youth development programs;

5. Parenting education and parent leadership programs;

6. Community service and service learning opportunities;

7. Programs that provide assistance to students who have been truant, suspended, or expelled;

8. Job training and career counseling services;

9. Nutrition services;

10. Primary health and dental care;

11. Mental health counseling services; and

12. Adult education, including instruction of adults in English as a second language.

Proposed Competitive Preference Priority:

We are proposing the following competitive preference priority for this program:

Proposed Competitive Preference Priority—Strategies That Support Turning Around Persistently Lowest-Achieving Schools

We propose to give competitive preference to applications to enable schools that are currently identified as persistently lowest-achieving schools, as defined in this notice, and are currently undergoing or plan to undergo one of three school intervention models, as defined in this notice, to become full-service community schools. Applicants would be required to describe (a) the school intervention model that would be implemented to improve academic outcomes for students; (b) the academic, social, and/or health services that would be provided and why; and (c) how the academic, social and/or health services provided would align with and support the school intervention model implemented.

Proposed Requirements:

Background:

Children, particularly those living in poverty, need a variety of family and community resources, including intellectual, social, physical, and emotional supports, to have the opportunity to attain academic success. Many children live in communities that lack not only high-performing schools, but also the supports that children need to be ready and able to learn when they start school. School-community partnerships are key strategies for providing resources to these individual students. A variety of organizations can help provide the missing resources for children living in poverty and, therefore, begin to transform struggling schools and communities. These organizations can be public or private, community-based or faith-based, governmental or non-governmental, or a combination thereof, but they must work together with clearly articulated and mutually agreed upon goals, target populations, roles, and desired outcomes. Partnerships between schools and organizations may take many forms; for example, a telecommunications firm might offer internships to high school students to help them make real-world connections to the school's science curriculum or a local police department might provide mentors for troubled youth in order to improve a low school graduation rate. Such partnerships can transform the capacity of schools to serve students' diverse needs and improve their outcomes.

A full-service community school coordinator, as defined in this notice, is often central to the effective facilitation of these partnerships and the delivery of services. The FSCS coordinator serves as the lead advocate for the on-site development of the community school effort. The FSCS coordinator assists school staff, parents, and community members, as defined in this notice, by linking students with the community organizations that offer programs and services that can address students' needs. The FSCS coordinator is essential to ensuring that programs and desired outcomes are fully aligned.

Proposed Requirements:

The Secretary proposes the following requirements for this program. We may apply one or more of these requirements in any year in which this program is in effect.

Application Requirements

In order to receive funding, an applicant must include the following in its application:

1. A description of the needs of the students, students' family members, and community members to be served, including information about (a) the magnitude or severity of the problem to be addressed by the project; and (b) the extent to which specific gaps or weaknesses in services, infrastructure, or opportunities have been identified and will be addressed by the proposed project.

2. A list of partner entities that will assist the applicant in coordinating or providing services to promote successful student, family, and community outcomes.

3. A memorandum of understanding between the applicant and all partner entities, describing the role each partner entity will assume.

4. A description of the organizational capacity of the applicant to provide and coordinate eligible services at an FSCS that will support increased student achievement. The description must include the applicant's experience partnering with the target school(s) and other partner entities, examples of how the applicant has responded to challenges working with these partners, and lessons learned from similar work or previous community-school efforts. Applicants must also describe their past experience (a) building relationships and community support to achieve results; and (b) collecting and using data for decision-making and ongoing improvement.

5. A comprehensive plan that includes descriptions of the students, students' family members, and community to be served, including information about the demographic characteristics and needs of the students, students' family members, and community to be served. The plan must also include the estimated total number of individuals to be served, disaggregated by the number of students, students' family members, and community members, as defined in this notice, and the type and frequency of services to be provided to each group.

6. A list and description of the eligible services to be provided or coordinated by the applicant and the partner entities.

7. A description of how the applicant will use data to drive decision-making and measure success. This description must include a description of the applicant's plans to build or expand a longitudinal data system to track academic and community support indicators that will be used to monitor and assess outcomes of the eligible services provided and coordinated by the FSCS project.

8. A description of the role and responsibilities of the full-service community school coordinator.

Eligibility

To be eligible for a grant under this competition, an applicant must be a consortium consisting of a local educational agency and one or more community-based organizations, nonprofit organizations, or other public or private entities.

Cost-Sharing or Matching

To be eligible for an award, a portion of the services provided by the applicant must be supported through non-Federal contributions, either in cash or in-kind donations. The applicant must propose the amount of cash or in-kind resources to be contributed for each year of the grant.

Planning

Because interagency collaborative efforts are highly complex undertakings, and require extensive planning and communication among partners and key stakeholders, applicants receiving funding under this program may devote funds received during the first year of the project period to comprehensive program planning. Funding received by grantees during the remainder of the project period must be devoted to program implementation.

Proposed Definitions:

Background:

Several important terms associated with the FSCS program are not defined in sections 5411-5413 and 9101 of the ESEA.

Proposed Definitions:

The Secretary proposes the following definitions for this program. We may apply these definitions in any year in which this program is in effect.

Community member means an individual who is not a student or a student's family member, as defined elsewhere in this notice, but who lives in the community served by the FSCS grant.

Full-service community school means a public elementary or secondary school that coordinates with its local educational agency and community-based organizations, nonprofit organizations, and other public or private entities on the provision of comprehensive academic, social, and health services to students, students' family members, and community members. In addition, a full-service community school fosters community development and promotes parental engagement by bringing together many partners in order to offer a range of supports and opportunities for students, students' family members, and community members.

Full-service community school coordinator means an individual who has lead responsibility for on-site development and implementation of the full-service community school effort and who, in that capacity, facilitates partnerships and coordinates service delivery.

Persistently lowest-achieving school means, as determined by the State under the School Improvement Grants program (pursuant to the final requirements for the School Improvement Grants program, 74 FR 65618, published in the Federal Register on December 10, 2009)—

(1) Any Title I school in improvement, corrective action, or restructuring that—

(i) Is among the lowest-achieving five percent of Title I schools in improvement, corrective action, or restructuring or the lowest-achieving five Title I schools in improvement, corrective action, or restructuring in the State, whichever number of schools is greater; or

(ii) Is a high school that has had a graduation rate as defined in 34 CFR 200.19(b) that is less than 60 percent over a number of years; and

(2) Any secondary school that is eligible for, but does not receive, Title I funds that—

(i) Is among the lowest-achieving five percent of secondary schools or the lowest-achieving five secondary schools in the State that are eligible for, but do not receive, Title I funds, whichever number of schools is greater; or

(ii) Is a high school that has had a graduation rate as defined in 34 CFR 200.19(b) that is less than 60 percent over a number of years.

School intervention model means one of the following three specific interventions described in the final requirements for the School Improvement Grants program, 74 FR 65618, published in the Federal Register on December 10, 2009 and summarized as follows:

(1) Turnaround model, which includes, among other actions, replacing the principal and rehiring no more than 50 percent of the school's staff, adopting a new governance structure, and implementing an instructional program that is research-based and vertically aligned from one grade to the next as well as aligned with a State's academic standards.

(2) Restart model, in which a local educational agency converts the school or closes and reopens it under the management of a charter school operator, a charter management organization, or an education management organization that has been selected through a rigorous review process.

(3) Transformation model, which addresses four specific areas critical to transforming persistently lowest-achieving schools: (i) Replace the principal and take steps to increase teacher and school effectiveness; (ii) institute comprehensive instructional reforms; (iii) increase learning time and create community-oriented schools; (iv) provide operational flexibility and sustained support.

Student means a child enrolled in a public elementary or secondary school served by the FSCS grant.

Student's family member means the student's parents/guardians, siblings, and any other related individuals living in the same household as the student and not enrolled in the school served by the FSCS grant.

Proposed Selection Criteria:

Background:

The first FSCS grant competition was held in FY 2008. Our experience with administering this competition suggests that the selection criteria used in FY 2008 were effective in selecting FSCS projects for funding with the greatest potential for success. We believe the following proposed selection criteria, which are essentially the same as those used in FY 2008, would contribute to our efforts to support successful FSCS sites.

Proposed Selection Criteria:

The Secretary proposes the following selection criteria for evaluating an application under the FSCS program. We may apply one or more of these criteria in any year in which this program is in effect. In the notice inviting applications, the application package, or both, we will announce the maximum possible points assigned to each criterion.

(a) Quality of the Project Design.

(1) The Secretary considers the quality of the design of the proposed project.

(2) In determining the quality of the design of the proposed project, the Secretary considers the extent to which the proposed project consists of a comprehensive plan that includes a description of—

(i) The project objectives;

(ii) The students, students' family members, and community to be served, including information about the demographic characteristics and needs of the students, students' family members, and other community members and the estimated number of individuals to be served; and

(iii) The eligible services (as listed in the Absolute Priority described elsewhere in this notice) to be provided or coordinated by the applicant and its partner entities, how those services will meet the needs of students, students' family members, and other community members and the frequency with which those services will be provided to students and students' family members.

(b) Adequacy of Resources.

(1) The Secretary considers the adequacy of resources for the proposed project.

(2) In determining the adequacy of resources for the proposed project, the Secretary considers the following factors:

(i) The adequacy of support, including facilities, equipment, supplies, and other resources to be provided by the applicant and consortium partners;

(ii) The relevance and demonstrated commitment of each partner in the proposed project to the implementation and success of the project; and

(iii) The extent to which costs are reasonable in relation to the number of persons to be served and services to be provided.

(c) Quality of the Management Plan.

(1) The Secretary considers the quality of the management plan for the proposed project.

(2) In determining the quality of the management plan for the proposed project, the Secretary considers the following factors:

(i) The extent to which the proposed project consists of a comprehensive plan that includes a description of planning, coordination, management, and oversight of the eligible services (as listed in the Absolute Priority described elsewhere in this notice) to be provided at each school to be served, including the role of the school principal, the FSCS coordinator, partner entities, parents, and community members;

(ii) The qualifications, including relevant training and experience, of the FSCS coordinator and other key project personnel including prior performance of the applicant on similar or related efforts; and

(iii) The extent to which the time commitments of the project director, the FSCS coordinator, and other key project personnel are appropriate and adequate to meet the objectives of the proposed project.

(d) Quality of Project Services.

(1) The Secretary considers the quality of the services to be provided by the proposed project.

(2) In determining the quality of the project services, the Secretary considers the following:

(i) The extent to which the services to be provided by the proposed project reflect up-to-date knowledge from research and effective practice;

(ii) The likelihood that the services to be provided by the proposed project will lead to improvements in the achievement of students as measured against rigorous academic standards.

(e) Quality of the Project Evaluation.

(1) The Secretary considers the quality of the evaluation to be conducted of the proposed project.

(2) In determining the quality of the evaluation, the Secretary considers the extent to which the proposed evaluation—

(i) Sets out methods of evaluation that include the use of objective performance measures that are clearly related to the intended outcomes of the project and will produce quantitative and qualitative data to the extent possible;

(ii) Will provide timely and valid information on the management, implementation, or efficiency of the project; and

(iii) Will provide guidance on or strategies for replicating or testing the project intervention in multiple settings.

Factors Applicants May Wish to Consider in Developing an Evaluation Plan:

The quality of the evaluation plan is one of the selection criteria by which applications in this competition will be judged. A strong evaluation plan should be included in the application narrative and should be used, as appropriate, to shape the development of the project from the beginning of the project period. The plan should include benchmarks to monitor progress toward specific project objectives and also outcome measures to assess the impact on teaching and learning or other important outcomes for project participants. More specifically, the plan should identify the individual or organization that has agreed to serve as evaluator for the project and describe the qualifications of that evaluator. The plan should describe the evaluation design, indicating: (1) What types of data will be collected; (2) when various types of data will be collected; (3) what methods will be used; (4) what instruments will be developed and when; (5) how the data will be analyzed; (6) when reports of results and outcomes will be available; and (7) how the applicant will use the information collected through the evaluation to monitor progress of the funded project and to provide accountability information both about success at the initial site and about effective strategies for replication in other settings. Applicants are encouraged to devote an appropriate level of resources to project evaluation.

Final Priority, Requirements, Definitions, and Selection Criteria:

We will announce the final priorities, requirements, definitions, and selection criteria in a notice in the Federal Register. We will determine the final priorities, requirements, definitions, and selection criteria after considering responses to this notice and other information available to the Department. This notice does not preclude us from proposing additional priorities, requirements, definitions, or selection criteria, subject to meeting applicable rulemaking requirements.

Note: This notice does not solicit applications. In any year in which we choose to use these proposed priorities and one or more of these proposed requirements, definitions, and selection criteria, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priority, requirements, definitions, and selection criteria justify the costs.

We have determined, also, that this proposed regulatory action does not unduly interfere with State, local, and tribal governments in the exercise of their governmental functions.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or computer diskette) on request to the contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: February 3, 2010.
James H. Shelton, III,
Assistant Deputy Secretary for Innovation and Improvement.

[FR Doc. 2010-2700 Filed 2-5-10; 8:45 am]

BILLING CODE 4000-01-P